DEPARTMENT OF ENERGY

[Dockets No. EA-181-A and EA-182-A]

Application to Export Electric Energy; H.Q. Energy Services (U.S.) Inc.

AGENCY: Office of Fossil Energy, DOE.

ACTION: Notice of Application.

SUMMARY: Under two separate applications, H.Q. Energy Services (U.S.) Inc. (HQUS) has applied for renewal of its authority to transmit electric energy from the United States to Mexico and from the United States to Canada pursuant to section 202(e) of the Federal Power Act.

DATES: Comments, protests or requests to intervene must be submitted on or before July 12, 2000.

ADDRESSES: Comments, protests or requests to intervene should be addressed as follows: Office of Coal & Power Im/Ex (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. 824a(e)).

On July 16, 1998, the Office of Fossil Energy (FE) of the Department of Energy (DOE) authorized HQUS to transmit electric energy from the United States to Mexico using the international electric transmission facilities of San Diego Gas and Electric Company, El Paso Electric Company, Central Power and Light Company, and Comision Federal de Electricidad, the national utility of Mexico. That two-year authorization (Order EA-181) will expire on July 16, 2000.

On August 21, 1998, FE authorized HQUS to transmit electric energy from the United States to Canada using the international electric transmission facilities owned by Basin Electric Power Cooperative, Bonneville Power Administration, Citizens Utilities, Detroit Edison Company, Eastern Maine Electric Cooperative, Fraser Paper Limited, Joint Owners of the Highgate Project, Long Sault, Inc., Maine Electric Power Company, Maine Public Service Company, Minnesota Power, Inc., Minnkota Power Cooperative, New York Power Authority, Niagara Mohawk Power Corporation, Northern States Power, Vermont Electric Transmission Company and Washington Water Power. That two-year authorization (Order EA-182) will expire on August 21, 2000.

On May 16, 2000, HQUS filed two applications with FE for renewal of both of the above export authorizations and requested that the authorization for each be issued for a 5-year term.

DOE notes that the circumstances described in these applications are virtually identical to those for which export authority had previously been granted in FE Order EA-181 and FE Order EA-182. Consequently, DOE believes that it has adequately satisfied its responsibilities under the National Environmental Policy Act of 1969 through the documentation of a categorical exclusion in the FE Docket EA-181 and FE Docket EA-182 proceedings.

Procedural Matters

Any person desiring to become a party to this proceeding or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the HQUS application to export electric energy to Mexico should be clearly marked with Docket EA-181-A. Comments on the HQUS application to export electric energy to Canada should be clearly marked with Docket EA-182-A. Additional copies are to be filed directly with Pierre F. de Ravel d'Esclapon, H. Liza Moses, LeBoeuf, Lamb, Greene & MacRae, L.L.P., 125 West 55th Street, New York, New York 10019-5389.

Copies of this application will be made available, upon request, for public inspection and copying at the address provided above or by accessing the Fossil Energy Home Page at http://www.fe.doe.gov. Upon reaching the Fossil Energy Home page, select “Electricity”, then “Pending Proceedings” from the options menus.

Issued in Washington, D.C., on June 6, 2000.
Anthony J. Como,
Deputy Director, Electric Power Regulation, Office of Coal & Power Im/Ex, Office of Coal & Power Systems, Office of Fossil Energy.

[FR Doc. 00-14743 Filed 6-9-00; 8:45 am]

BILLING CODE 6450-01-P